DEPARTMENT OF TRANSPORTATION

Pipeline and Hazardous Materials Safety Administration; Office of Hazardous Materials Safety

Notice of applications for modification of exemption.

AGENCY: Pipeline and Hazardous Materials Safety Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Requests of modifications of exemptions (e.g. to provide for additional hazardous materials, packaging design changes, additional mode of transportation, etc.) are described in footnotes to the application number. Application numbers with the suffix “M” denote a modification request. Applications have been separated from the new application for exemption to facilitate processing.

DATES: Comments must be received on or before September 29, 2005.

Address comments to: Record Center, Pipeline and Hazardous Materials Safety Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington DC or at http://dms.dot.gov.

This notice of receipt of applications for modification of exemption is published in accordance with Part 107 of the Federal hazardous materials transportation law (49 U.S.C. 5117(b); 49 CFR 1.53(b)).

Issued in Washington, DC, on September 9, 2005.
R. Ryan Posten,
Exemptions Program Officer, Office of Hazardous Materials Exemptions & Approvals.

Application No. | Docket No. | Applicant | Regulation(s) affected | Modification of exemption | Nature of exemption thereof
MODIFICATION EXEMPTIONS
5022-M |  | Boeing Company, The Anaheim, CA | 49 CFR 174.101(L); 174.104(d); 174.112(a); 177.834(l)(1) | 5022 | To modify the exemption to authorize the transportation of an additional Division 1.3C material in temperature controlled equipment.
7835-M |  | Air Products & Chemicals, Inc., Allentown, PA | 49 CFR 177.848(d) | 7835 | To modify the exemption to authorize the use of an E track system as an approved method for securing cylinders transporting various hazardous materials.
8495-M |  | Kidde Aerospace, Wilson, NC | 49 CFR 173.304(a)(1); 178.47; 175.3 | 8495 | To modify the exemption to authorize the transportation of additional Division 2.2 materials and expand the use of non-DOT specification cylinders to include Military Ground vehicles.
11215-M |  | Orbital Sciences Corporation, Mojave, CA | 49 CFR Part 172, Subparts C, D; 172.101, Special Provision 109 | 11215 | To modify the exemption to change the packaging language to reflect current designs and add an additional flight plan launch site.
12290-M | RSPA-99-5858 | Savage Services Corp. (formerly Savage Industries, Inc.), Pottstown, PA | 49 CFR 174.67(a)(2) | 12290 | To modify the exemption to authorize the unloading of additional Class 3 and 8 and Division 5.1 materials in DOT Specification and non-DOT specification tank cars.
12874-M | RSPA-01-11103 | Zomeworks Corporation, Albuquerque, NM | 49 CFR 71 to 180 | 12874 | To modify the exemption to authorize an increase in internal volume and length of the refrigerating machine canister and tubing and the transportation of an additional Division 2.2. material.
13487-M | RSPA-04-17293 | University of Colorado at Health Sciences Center, Aurora, CO | 49 CFR 173.197; 172.301(a), (b), (c); 173.196(a), (b); 178.609 | 13487 | To modify the exemption to authorize an additional physical address of a newly acquired laboratory space for the one-way transportation of certain Division 6.2 materials in alternative packaging.
13601-M | RSPA-04-18713 | DS Containers Inc., Lemont, IL | 49 CFR 173.306(b)(1); 175.3 | 13601 | To modify the exemption to authorize the use of an alternative non-DOT specification inner non-refillable container and revised procedures for testing an approved lot.
13963-M | RSPA-2004-19299 | Duratek Services, Inc., Columbia, SC | 49 CFR 173.403; 173.427; 173.465 | 13963 | To modify the exemption to authorize the use of alternative packaging for the transportation of Class 7 material.
14096-M | RSPA-05-20125 | United States Enrichment Corporation (USEC), Paducah, KY | 49 CFR 173.420 | 14096 | To modify the exemption to authorize the one-time, one-way transportation of additional Model 480M and Model 48A cylinders containing a Class 7 material.

[FR Doc. 05-18271 Filed 9-13-05; 8:45 am]

BILLING CODE 4909-60-M